DEPARTMENT OF HOMELAND SECURITY

Coast Guard

[USCG-2003-14878]

Automatic Identification System; Expansion of Carriage Requirements for U.S. Waters

AGENCY: Coast Guard, DHS.

ACTION: Notice; request for comments; extension of comment period, and notice of public meetings.

SUMMARY: On July 1, 2003, the Coast Guard published a notice requesting comments on how best to address implementation of Automatic Identification System (AIS) carriage requirements on certain navigable waters of the U.S. for vessels not on international voyages. The comment period for that notice was scheduled to end September 29, 2003, but we are extending the comment period through January 5, 2004. This extension will permit the Coast Guard to receive comments in response to our previously published notice after the public has seen the final rule that will be published this fall. We are also announcing the dates and locations of three public meetings.

DATES: Comments and related material must reach the Docket Management Facility on or before January 5, 2004. Public meetings will be held on the following dates in the following cities:

November 5, 2003, 9 a.m. to 12 a.m. (noon), in New Orleans, LA;

November 13, 2003, 9:30 a.m. to 12:30 p.m., in New Bedford, MA; and

December 5, 2003, 9 a.m. to 12:30 p.m. in Seattle, WA.

ADDRESSES: Comments. You may submit comments identified by Coast Guard docket number USCG-2003-14878 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: 202-493-2251.

(4) Delivery: Room PL-401 on Plaza level of the Nassif Building, 400 Seventh Street SW., Washington, DC, between 9 a.m. and 5 p.m., Monday through Friday, except Federal holidays. The telephone number is 202-366-9329.

(5) Federal eRulemaking Portal: http://www.regulations.gov.

Meetings. The meetings will be held at the following locations:

New Orleans, LA—8th Coast Guard District, Hale Boggs Federal Building, 501 Magazine Street, Room B100 New Orleans, LA 70130.

New Bedford, MA—Location to be announced via separate notice.

Seattle, WA-13th Coast Guard District, Federal Building, 915 Second Avenue, 4th Floor, Northern Auditorium, Seattle, WA 98174.

FOR FURTHER INFORMATION CONTACT: If you have questions on this notice, contact Mr. Jorge Arroyo, Office of Vessel Traffic Management (G-MWV-1), Coast Guard, telephone 202-267-6277, fax 202-267-4826 or e-mail: jarroyo@comdt.uscg.mil. If you have questions on viewing or submitting material to the docket, call Andrea M. Jenkins, Program Manager, Docket Operations, telephone 202-366-0271.

SUPPLEMENTARY INFORMATION:

Public Participation and Request for Comments

We encourage you to respond to our request for comments, by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify the docket number (USCG-2003-14878), indicate the specific question you are responding to, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meetings

We are intending to hold at least three public meetings regarding this notice on the expansion of AIS carriage requirements for U.S. waters. The three scheduled meetings will be held—

• November 5, 2003, 9 a.m. to 12 a.m. (noon), at 8th Coast Guard District, Hale Boggs Federal Building, 501 Magazine Street, Room B100, New Orleans, LA 70130.

• November 13, 2003, 9:30 a.m. to 12:30 p.m., in New Bedford, MA at a location to be announced via a separate notice.

• December 5, 2003, 9 a.m. to 12:30 p.m., at 13th Coast Guard District, Federal Building, 915 Second Avenue, 4th Floor, Northern Auditorium, Seattle, WA 98174.

Reason for Extension of Comment Period

In a temporary interim rule published in the Federal Register on July 1, 2003 (68 FR 39353), the Coast Guard required Automatic Identification System (AIS) carriage as agreed to by the international community in amendments to the International Convention for the Safety of Life at Sea, 1974 (SOLAS), and as directed by the Maritime Transportation Security Act of 2002 (MTSA), Public Law 107-295. That rulemaking, however, covers only vessels on international voyages and certain vessels on specified waterways (Vessel Traffic Service Areas) of the United States.

As we stated in a request for comments published July 1, 2003 (68 FR 39369), entitled “Automatic Identification System; Expansion of Carriage Requirements for U.S. Waters,” the MTSA required that specific categories of vessels be equipped with and operate an AIS in all navigable waters of the U.S., unless the Secretary finds that AIS is not needed for safe navigation on specified navigable waters.

Our July 1, 2003, notice, which is available in the docket under ADDRESSES, requested comments on how best to address implementation on the remaining navigable waters of the U.S. for vessels not on international voyages. We are extending the comment period for that notice to January 5, 2004. We are also republishing and adding to the questions posed previously in our notice. This extension will allow us to receive comments in response to this notice after the public has seen the final rule that will complete the ongoing rulemaking involving AIS. As previously stated, the Coast Guard plans to issue that final rule before November 25, 2003 (68 FR 39354, July 1, 2003).

Questions

We need the public's assistance in answering the following questions, and any additional information provided on this topic is welcome. Note, we have republished the questions as posed in our July 1, 2003 notice (68 FR 39353), and inserted additional terms, denoted in brackets [], to either further clarify or to solicit additional comments regarding a specific question.

In responding to each question, please explain your reasons for each answer as specifically as possible so that we can carefully weigh the consequences and impacts of any future actions we may take.

(1) Recognizing that AIS may ultimately be required on all [U.S.] navigable waters, what particular waterways or ports should be implemented before others?

(2) Are there particular [U.S. navigable] waterways where the AIS requirements should be waived? Why?

(3) AIS is not specifically mandated (by the MTSA) on all vessels. The MTSA, however, does allow the Secretary to require AIS on any vessel if deemed necessary for safe navigation. Should other vessels (e.g., commercial vessels under 65 feet in length, towing vessels under 26 feet and 600 horsepower, dredges and floating plants, recreational vessels, offshore facilities, [non-self propelled vessels or barges, particularly those carrying hazardous cargo], or Mobile Offshore Drilling Units) be required to have AIS?

(4) SOLAS expects nations to implement their AIS carriage on their domestic fleet (vessels over 500 gross tonnage and passenger vessels not on international voyage) not later than July 1, 2008. However, the MTSA requires AIS by December 31, 2004. Knowing this, should certain vessels be granted temporary exemptions regarding the compliance dates in MTSA?

(5) Under what circumstances, if any, should a vessel be exempted from the AIS requirements per the MTSA exemption?

(6) SOLAS defines a passenger vessel as carrying 12 or more passengers. VTS regulations define VTS users as passenger vessels over 100 gross tons carrying 1 or more passengers or those certificated to carry 50 or more passengers. The MTSA allows the Secretary to determine the threshold (number of passengers) [for hire or not for hire] when determining which passenger vessels are required to have AIS. Should we expand AIS carriage beyond what is already defined in SOLAS and our rule?

(7) Should the Coast Guard encourage or require the use of systems such as electronic chart display and information system (ECDIS) and electronic chart system (ECS) to display AIS information to enhance navigation safety? Are there other systems that could be used for this purpose?

(8) Would you be more likely to install an ECDIS or ECS on your vessel, to display AIS information, if the system could be used to comply with an existing requirement to carry nautical charts?

Dated: September 22, 2003.
T.H. Gilmour,
Rear Admiral, U.S. Coast Guard, Assistant Commandant for Marine Safety, Security and Environmental Protection.

[FR Doc. 03-24364 Filed 9-25-03; 8:45 am]

BILLING CODE 4910-15-P